DEPARTMENT OF COMMERCE

International Trade Administration

[A-570-848]

Freshwater Crawfish Tail Meat From the People's Republic of China: Preliminary Results of Antidumping Duty Administrative Review and New Shipper Review; 2011-2012

AGENCY: Import Administration, International Trade Administration, Department of Commerce.

SUMMARY: The Department of Commerce (the Department) is conducting an administrative review and new shipper review of the antidumping duty order on freshwater crawfish tail meat from the People's Republic of China (PRC). The period of review (POR) for the administrative review is September 1, 2011, through August 31, 2012, and the POR for the new shipper review is September 1, 2011, through September 30, 2012. The Department preliminarily determines that Deyan Aquatic Products and Food Co., Ltd. (Deyan Aquatic) (the new shipper), Nanjing Gemsen International Co., Ltd. (Nanjing Gemsen), Xiping Opeck Food Co., Ltd. (Xiping Opeck), and Yancheng Hi-King Agriculture Developing Co., Ltd., (Yancheng Hi-King) have not made sales of subject merchandise in the United States at prices below normal value.

DATES: Effective Date: October 3, 2013.

FOR FURTHER INFORMATION CONTACT: Sandra Dreisonstok or Minoo Hatten, AD/CVD Operations, Office 1, Import Administration, International Trade Administration, U.S. Department of Commerce, 14th Street and Constitution Avenue NW., Washington, DC 20230; telephone: (202) 482-0768, and (202) 482-1690, respectively.

SUPPLEMENTARY INFORMATION:

Scope of the Order

The merchandise subject to the antidumping duty order is freshwater crawfish tail meat, which is currently classified in the Harmonized Tariff Schedule of the United States (HTSUS) under item numbers 1605.40.10.10, 1605.40.10.90, 0306.19.00.10, and 0306.29.00.00. On February 10, 2012, the Department added HTSUS classification number 0306.29.01.00 to the scope description pursuant to a request by U.S. Customs and Border Protection (CBP). The HTSUS numbers are provided for convenience and customs purposes. A full description of the scope of the order is contained in the memorandum from Christian Marsh, Deputy Assistant Secretary for Antidumping and Countervailing Duty Operations, to Paul Piquado, Assistant Secretary for Import Administration, “Decision Memorandum for the Preliminary Results of the Antidumping Duty Administrative Review and New Shipper Review: Freshwater Crawfish Tail Meat from the People's Republic of China” (Preliminary Decision Memorandum), which is hereby adopted by this notice. The written description is dispositive.

The Preliminary Decision Memorandum is a public document and is on file electronically via Import Administration's Antidumping and Countervailing Duty Centralized Electronic Service System (IA ACCESS). IA ACCESS is available to registered users at http://iaaccess.trade.gov and in the Central Records Unit, Room 7046 of the main Department of Commerce building. In addition, a complete version of the Preliminary Decision Memorandum can be accessed directly on the internet at http://www.trade.gov/ia/. The signed Preliminary Decision Memorandum and the electronic versions of the Preliminary Decision Memorandum are identical in content.

Methodology

The Department has conducted these reviews in accordance with section 751(a)(2) of the Tariff Act of 1930, as amended (the Act). Export Price is calculated in accordance with section 772(c) of the Act. Because the PRC is a non-market economy (NME) within the meaning of section 771(18) of the Act, normal value has been calculated in accordance with section 773(c) of the Act. For a full description of the methodology underlying our conclusions, see Preliminary Decision Memorandum.

Treatment of Affiliated Parties as a Single Entity

Consistent with the 2010-2011 administrative review,¹ the Department preliminarily finds that Yancheng Hi-King is affiliated with certain entities, pursuant to sections 771(33)(A), (E) and (F) of the Act, based on ownership and common control. Further, for these preliminary results, the Department is treating Yancheng Hi-King and its affiliates, Yancheng Seastar Seafood Co., Ltd., Wuhan Hi-King Agriculture Development Co., Ltd., Yancheng Hi-King Frozen Food Co., Ltd., Jiangxi Hi-King Poyang Lake Seafood Co., Ltd., and Yancheng Hi-King Aquatic Growing Co., Ltd. as a single entity for the purpose of calculating an antidumping duty margin.²

¹ See Freshwater Crawfish Tail Meat From the People's Republic of China: Final Results of Antidumping Duty Administrative Review and Partial Rescission; 2010-2011, 78 FR 2228 (April 15, 2013).

² See memorandum entitled “Freshwater Crawfish Tail Meat from the People's Republic of China—Collapsing of Yancheng Hi-King Agriculture Developing Co., Ltd., and its Affiliates” (October 1, 2012). The aforementioned document was placed on the record of this administrative review; see memorandum to file entitled “Placement of the 2010-2011 Collapsing Memorandum on the Record” (August 19, 2013), at attachment.

Preliminary Determination of No Shipments

China Kingdom (Beijing) Import & Export Co., Ltd. (China Kingdom), Shanghai Ocean Flavor International Trading Co., Ltd. (Shanghai Ocean Flavor), and Xuzhou Jinjiang Foodstuffs Co., Ltd. (Xuzhou Jinjiang), which have separate rates, reported that they did not have any exports of subject merchandise during the POR.³ This is consistent with the CBP data for the POR, which showed no evidence of imports from these companies.⁴ Additionally, we requested that CBP report any contrary information. To date, CBP has not responded to our inquiries and we have not received any evidence that these entities had any shipments to the United States of subject merchandise during the POR.⁵ Consistent with the Department's refinement to its assessment practice in NME cases regarding no shipment claims, we are completing the review with respect to China Kingdom, Shanghai Ocean Flavor, and Xuzhou Jinjiang, and will issue appropriate instructions to CBP based on the final results of the review.⁶

³ See no shipment letters filed by China Kingdom and Shanghai Ocean Flavor, dated November 14, 2012, and Xuzhou Jinjiang, dated November 30, 2012.

⁴ See the memorandum entitled “Freshwater Crawfish Tail Meat From the People's Republic of China—placing CBP Data on the record of this review” (November 16, 2012).

⁵ CBP only responds to the Department's inquiry when there are records of shipments from the company in question. See, e.g., Certain Hot-Rolled Flat-Rolled Carbon Quality Steel Flat Products From Brazil: Notice of Rescission of Antidumping Duty Administrative Review, 75 FR 65453, 65454 (October 25, 2010).

⁶ See Non-Market Economy Antidumping Proceedings: Assessment of Antidumping Duties, 76 FR 65694 (October 24, 2011) and the “Assessment Rates” section below.

Preliminary Results of Reviews

The Department has determined that the following preliminary dumping margins exist for the administrative review covering the period September 1, 2011, through August 31, 2012:

Exporter | Margin (percent)
Nanjing Gemsen International Co., Ltd | 0.00
Xiping Opeck Food Co., Ltd | 0.00
Yancheng Hi-King Agriculture Developing Co., Ltd | 0.00

As a result of the new shipper review, the Department has preliminarily determined that a dumping margin of 0.00 percent exists for merchandise produced and exported by Deyan Aquatic Products and Food Co., Ltd. covering the period September 1, 2011, through September 30, 2012.⁷

⁷ See the Preliminary Decision Memorandum at 2-3 for a discussion regarding the POR for the new shipper review.

Disclosure and Public Comment

The Department will disclose calculations performed in these preliminary results to the parties within five days after the date of publication of this notice.⁸ Because the Department intends to conduct verification pursuant to 19 CFR 351.307(v)(B), the Department will establish the briefing schedule at a later time and will notify parties of that schedule.⁹ Parties who submit arguments are requested to submit with the argument: (1) A statement of the issue; (2) a brief summary of the argument; and (3) a table of authorities. Rebuttals briefs, limited to issues raised in case briefs, may be filed no later than five days after the time limit for filing the case briefs, as specified by 19 CFR 351.309(d).

⁸ See 19 CFR 351.224(b).

⁹ See 19 CFR 351.309.

Interested parties who wish to request a hearing, or to participate if one is requested, must submit a written request to the Assistant Secretary for Import Administration, U.S. Department of Commerce, filed electronically using IA ACCESS. An electronically filed document must be received successfully in its entirety by the Department's IA ACCESS by 5:00 p.m. Eastern Time within 30 days after the date of publication of this notice.¹⁰ Hearing requests should contain the party's name, address, and telephone number, the number of participants, and a list of issues to be discussed. Oral presentations will be limited to issues raised in the briefs. If a request for a hearing is made, we will inform parties of the scheduled date for the hearing which will be held at the U.S. Department of Commerce, 14th Street and Constitution Avenue NW., Washington DC 20230, at a time and location to be determined.¹¹ Parties should confirm by telephone the date, time, and location of the hearing.

¹⁰ See 19 CFR 351.310(c).

¹¹ Id.

Unless the deadline is extended pursuant to section 751(a)(2)(B)(iv) of the Act, the Department will issue the final results of these reviews, including the results of its analysis of issues raised by parties in their comments, within 120 days after the publication of these preliminary results, pursuant to section 751(a)(3)(A) of the Act and 19 CFR 351.213(h).

Deadline for Submission of Publicly Available Surrogate Value Information

In accordance with 19 CFR 351.301(c)(3)(ii), the deadline for submission of publicly available information to value FOPs under 19 CFR 351.408(c) is 20 days after the date of publication of these preliminary results. In accordance with 19 CFR 351.301(c)(1), if an interested party submits factual information less than ten days before, on, or after (if the Department has extended the deadline), the applicable deadline for submission of such factual information, an interested party may submit factual information to rebut, clarify, or correct the factual information no later than ten days after such factual information is served on the interested party. However, the Department notes that 19 CFR 351.301(c)(1), permits new information only insofar as it rebuts, clarifies, or corrects information previously placed on the record.¹² Furthermore, the Department generally will not accept business proprietary information in either the surrogate value submissions or the rebuttals thereto, as the regulation regarding the submission of surrogate values allows only for the submission of publicly available information.¹³

¹² See, e.g., Glycine from the People's Republic of China: Final Results of Antidumping Duty Administrative Review and Final Rescission, in Part, 72 FR 58809 (October 17, 2007), and accompanying Issues and Decision Memorandum at comment 2.

¹³ See 19 CFR 351.301(c)(3).

Assessment Rates

Upon issuance of the final results, the Department shall determine, and CBP shall assess, antidumping duties on all appropriate entries covered by these reviews.¹⁴ The Department intends to issue assessment instructions to CBP 15 days after the date of publication of the final results of these reviews. If a respondent's weighted average dumping margin is above de minimis (i.e., 0.50 percent) in the final results of these reviews, the Department will calculate an importer-specific assessment rate on the basis of the ratio of the total amount of dumping calculated for the importer's examined sales and, where possible, the total entered value of sales, in accordance with 19 CFR 351.212(b)(1). In these preliminary results, the Department applied the assessment rate calculation method adopted in the Final Modification for Reviews, i.e., on the basis of monthly average-to-average comparisons using only the transactions associated with the importer with offsets being provided for non-dumped comparisons.¹⁵ Where an importer- (or customer-) specific ad valorem rate is zero or de minimis, we will instruct CBP to liquidate appropriate entries without regard to antidumping duties.¹⁶

¹⁴ See 19 CFR 351.212(b)(1).

¹⁵ See Antidumping Proceeding: Calculation of the Weighted-Average Dumping Margin and Assessment Rate in Certain Antidumping Duty Proceedings; Final Modification, 77 FR 8101 (February 14, 2012) (Final Modification for Reviews).

¹⁶ See 19 CFR 351.106(c)(2).

On October 24, 2011, the Department announced a refinement to its assessment practice in NME cases.¹⁷ Pursuant to this refinement in practice, for entries that were not reported in the U.S. sales databases submitted by companies individually examined during this review, the Department will instruct CBP to liquidate such entries at the PRC-wide rate. In addition, if the Department determines that an exporter under review had no shipments of the subject merchandise, any suspended entries that entered under that exporter's case number (i.e., at that exporter's rate) will be liquidated at the PRC-wide rate.

¹⁷ For a full discussion of this practice, see Non-Market Economy Antidumping Proceedings: Assessment of Antidumping Duties, 76 FR 65694 (October 24, 2011).

Cash Deposit Requirements

The following cash deposit requirements will be effective upon publication of the final results of these reviews for shipments of the subject merchandise from the PRC entered, or withdrawn from warehouse, for consumption on or after the publication date, as provided by section 751(a)(2)(C) of the Act: (1) For the companies listed above that have a separate rate, except for Deyan Aquatic, the cash deposit rate will be that established in the final results of these reviews (except if the rate is zero or de minimis, i.e., less than 0.5 percent, then no cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter.

With respect to Deyan Aquatic, the new shipper respondent, the Department has established a combination cash deposit rate for this company consistent with its practice as follows: (1) For subject merchandise produced and exported by Deyan Aquatic, the cash deposit rate will be the rate established for Deyan Aquatic in the final results of the NSR; (2) for subject merchandise exported by Deyan Aquatic, but not produced by Deyan Aquatic, the cash deposit rate will be the rate for the PRC-wide entity; and (3) for subject merchandise produced by Deyan Aquatic but not exported by Deyan Aquatic, the cash deposit rate will be the rate applicable to the exporter.

These deposit requirements, when imposed, shall remain in effect until further notice.

Notification to Importers

This notice serves as a preliminary reminder to importers of their responsibility under 19 CFR 351.402(f)(2) to file a certificate regarding the reimbursement of antidumping duties prior to liquidation of the relevant entries during these PORs. Failure to comply with this requirement could result in the Department's presumption that reimbursement of antidumping duties occurred and the subsequent assessment of double antidumping duties.

We are issuing and publishing the preliminary results of these reviews in accordance with sections 751(a)(1), 751(a)(2)(B)(iv), 751(a)(3), 777(i) of the Act and 19 CFR 351.213(h), 351.214 and 351.221(b)(4).

Dated: September 26, 2013.
Paul Piquado,
Assistant Secretary for Import Administration.

Appendix

List of Topics Discussed in the Preliminary Decision Memorandum

1. Summary

2. Background

3. Period of Review for the New Shipper Review

4. Scope of the Order

5. Bona Fides Analysis

6. Treatment of Affiliated Parties as a Single Entity

7. Non-Market-Economy Country Status

8. Surrogate Country

9. Separate Rates

10. Absence of De Jure Control

11. Absence of De Facto Control

12. Fair Value Comparisons

13. U.S. Price

14. Normal Value

15. Surrogate Values

16. Currency Conversion

17. Conclusion

[FR Doc. 2013-24268 Filed 10-2-13; 8:45 am]

BILLING CODE 3510-DS-P